DEPARTMENT OF AGRICULTURE

Forest Service

Notice of Proposed New Fee Sites

AGENCY: Forest Service, Agriculture (USDA).

ACTION: Notice of proposed new fee sites.

SUMMARY: The Fishlake National Forest is proposing to charge new fees at three recreation sites listed in SUPPLEMENTARY INFORMATION of this notice. Funds from fees would be used for operation, maintenance, and improvements of these recreation sites. An analysis of nearby developed recreation sites with similar amenities shows the proposed fees are reasonable and typical of similar sites in the area.

DATES: If approved, the new fee would be implemented no earlier than six months following the publication of this notice in the Federal Register.

ADDRESSES: Fishlake National Forest, 115 East 900, North Richfield, Utah 84701.

FOR FURTHER INFORMATION CONTACT: Daniel Child, Forest Recreation Officer, 435-896-9233 or daniel.child@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Twin Creeks Amphitheatre group picnic site is proposed for $60 per day. In addition, the proposal would implement new fees at two recreation rentals: Mt. Terrill Guard Station at $50 per night and Big Flat Guard Station at $50-$75 per night, depending on season.

New fees would provide increased visitor opportunities as well as increased staffing to address operations and maintenance needs and enhance customer service. Once public involvement is complete, these new fees will be reviewed by a Recreation Resource Advisory Committee prior to a final decision and implementation.

Advanced reservations for the group picnic site and cabins will be available through www.recreation.gov or by calling 1-877-444-6777. The reservation service charges an $8.00 fee for reservations.

Dated: December 21, 2021.
Sandra Watts,
Acting Associate Deputy Chief, National Forest System.

[FR Doc. 2021-28140 Filed 12-27-21; 8:45 am]

BILLING CODE 3411-15-P